DEPARTMENT OF DEFENSE

Department of the Navy

[USN-2006-0055]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on October 23, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 18, 2006.
C.R. Choate,
Alternate OSD Federal Register Liaison Officer, Department of Defense.

N01740-1

System name:

Family Dependent Care Program (April 28, 1999, 64 FR 22840).

Changes:

* * * * *

System location:

Delete entry and replace with: “Organizational elements of the Department of the Navy. Official mailing addresses are published in the Standard Navy Distribution List (SNDL) that is available at http://doni.daps.dla.mil/sndl.aspx.”

* * * * *

Categories of records in the system:

Change “1740.6” to read “1740/6” and change “1740.7” to read “1740/7”.

Authority for maintenance of the system:

Delete entry and replace with “10 U.S.C. 5013, Secretary of the Navy; E.O. 9397 (SSN); and OPNAVINST 1740.4B, U.S. Navy Family Care Policy.”

Purpose(s):

Delete the second paragraph and replace with “Utilized by command financial specialists, Fleet and Family Support Centers, Child and Youth Programs, and legal assistance offices for providing guidance and assistance.”

* * * * *

System manager(s) and address:

Delete entry and replace with “Policy Official: Director, Personal Readiness and Community Support (N151), Office of the Chief of Naval Personnel, 5720 Integrity Drive, Millington, TN 38055-6000.”

Record Holder:

Commanding officer or designated representative of the naval activity where assigned. Official mailing addresses are published in the Standard Navy Distribution List (SNDL) that is available at http://doni.daps.dla.mil/sndl.aspx.”

Notification procedure:

Delete entry and replace with “Individuals seeking to determine whether this system of records contains information about themselves should address written inquiries to the Commanding Officer of the activity where assigned. Official mailing addresses are published in the Standard Navy Distribution List (SNDL) that is available at http://doni.daps.dla.mil/sndl.aspx.

Request should include full name, Social Security Number, dates assigned at that activity, and must be signed.”

Record access procedures:

Delete entry and replace with “Individuals seeking access to records about themselves should address written inquiries to the Commanding Officer of the activity where assigned. Official mailing addresses are published in the Standard Navy Distribution List (SNDL) that is available at http://doni.daps.dla.mil/sndl.aspx.

Request should include full name, Social Security Number, dates assigned at that activity, and must be signed.”

* * * * *

N01740-1

System name:

Family Dependent Care Program.

System location:

Organizational elements of the Department of the Navy. Official mailing addresses are published in the Standard Navy Distribution List (SNDL) that is available at http://doni.daps.dla.mil/sndl.aspx.

Categories of individuals covered by the system:

All Navy personnel serving on active duty or in the Ready Reserve who are single parents or members of dual military couples, that have custodial responsibility (i.e., housing, medical, logistical, financial, food, clothing, transportation, etc) for family members or other dependents.

Categories of records in the system:

Family Care Plan package which includes NAVPERS 1740/6—Family Care Plan Certificate, NAVPERS 1740/7—Family Care Plan Arrangements, Family Care Plan Checklist, copies of powers of attorney, legal documents, allotment information, financial information, counseling forms, etc.

Authority for maintenance of the system:

10 U.S.C. 5013, Secretary of the Navy; E.O. 9397 (SSN); and OPNAVINST 1740.4B, U.S. Navy Family Care Policy.

Purpose(s):

To ensure family members are cared for during deployments, reserve mobilizations, temporary duty, etc. and that arrangements are in place for the financial well being of family members covered by the Family Care Plan during separations.

Utilized by command financial specialists, Fleet and Family Support Centers, Child and Youth Programs, and legal assistance offices for providing guidance and assistance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper and automated records.

Retrievability:

Name and Social Security Number.

Safeguards:

Files are maintained in file cabinets under the control of authorized personnel during working hours; the office space in which the file cabinets are located is locked outside official working hours. Automated records are password protected.

Retention and disposal:

Records are maintained by the commanding officer or his designated representative for the period the individual is assigned to that organization. Records are updated annually or when family circumstances or other personal status changes. File follows member with each new assignment. Once affiliation with the Navy is complete, record is destroyed.

System manager(s) and address:

Policy Official: Director, Personal Readiness and Community Support (N151), Office of the Chief of Naval Personnel, 5720 Integrity Drive, Millington, TN 38055-6000.

Record Holder:

Commanding officer or designated representative of the naval activity where assigned. Official mailing addresses are published in the Standard Navy Distribution List (SNDL) that is available at http://doni.daps.dla.mil/sndl.aspx.

Notification procedure:

Individuals seeking to determine whether this system of records contains information about themselves should address written inquiries to the Commanding Officer of the activity where assigned. Official mailing addresses are published in the Standard Navy Distribution List (SNDL) that is available at http://doni.daps.dla.mil/sndl.aspx.

Request should include full name, Social Security Number, dates assigned at that activity, and must be signed.

Record access procedures:

Individuals seeking access to records about themselves should address written inquiries to the Commanding Officer of the activity where assigned. Official mailing addresses are published in the Standard Navy Distribution List (SNDL) that is available at http://doni.daps.dla.mil/sndl.aspx.

Request should include full name, Social Security Number, dates assigned at that activity, and must be signed.

Contesting record procedures:

The Navy's rules for accessing records, and contesting contents, and appealing initial agency determinations are published in Secretary of the Navy Instruction 5211.5; 32 CFR part 701; or may be obtained from the system manager.

Record source categories:

The individual.

Exemptions claimed for the system:

None.

[FR Doc. 06-8033 Filed 9-21-06; 8:45 am]

BILLING CODE 5001-06-P